FEDERAL COMMUNICATIONS COMMISSION

47 CFR Part 73

[DA 05-1716; MB Docket No. 04-420, RM-11119]

Radio Broadcasting Services; Corydon and Morganfield, KY

AGENCY: Federal Communications Commission.

ACTION: Final rule.

SUMMARY: At the request of Union County Broadcasting Co., Inc., licensee of Station WMSK-FM, Morganfield, Kentucky, the Audio Division substitutes Channel 237C3 for Channel 237A at Morganfield, reallots Channel 237C3 from Morganfield to Corydon, Kentucky, as the community's first local transmission service, and then modifies the license for Station WMSK-FM to reflect the changes. See 69 FR 75017, December 15, 2004. Channel 237C3 is reallotted at Corydon at Petitioners' proposed site Channel 237C3 is reallotted at Corydon at petitioner's proposed site 11.1 kilometers (6.9 miles) southwest of the community at coordinates 37-41-31 NL and 87-48-45 WL.

DATES: Effective August 11, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-420, adopted June 23, 2005, and released June 27, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under Kentucky, is amended by removing Morganfield, Channel 237A and by adding Corydon, Channel 237C3.

Federal Communications Commission.
John A. Karousos,
Assistant Chief, Audio Division, Media Bureau.

[FR Doc. 05-13568 Filed 7-12-05; 8:45 am]

BILLING CODE 6712-01-P